DEPARTMENT OF ENERGY

Federal Energy Regulatory Commission

[Docket No. EC00-130-000, et al.]

Engage Energy US, L.P., et al.; Electric Rate and Corporate Regulation Filings

August 30, 2000.

Take notice that the following filings have been made with the Commission:

1. Engage Energy US, L.P., Westcoast Gas Services Delaware (America) Inc.

[Docket No. EC00-130-000]

Take notice that on August 23, 2000, Engage Energy US, L.P. (Engage US) and Westcoast Gas Services Delaware (America) Inc. (WGSI Delaware) tendered for filing an application pursuant to Section 203 of the Federal Power Act for authorization of a transaction whereby Engage US will assign certain of its wholesale power sales agreements and associated books and records to WGSI Delaware and certain limited partnership interests in Engage US will be sold to CGM, Inc. In addition, the ownership of the general partner of Engage US will change. Pursuant to 18 CFR 388.112 of the Commission's regulations, Applicants request privileged treatment of Exhibit H.

Comment date: September 13, 2000, in accordance with Standard Paragraph E at the end of this notice.

2. Coyote Springs 2, LLC

[Docket No. EG00-251-000]

Take notice that on August 25, 2000, Coyote Springs 2, LLC, 201 West North River Drive, Spokane, Washington 99201, filed with the Federal Energy Regulatory Commission an application for determination of exempt wholesale generator status pursuant to Part 365 of the Commission's regulations.

The Applicant proposes to develop and own a natural gas-fired combined-cycle electric generation plant with a maximum capacity of 280 megawatts. The facility will be located in Morrow County, Oregon. The facility is scheduled to be completed in June 2002. All of the electric output of the facility will be sold at wholesale.

Comment date: September 20, 2000, in accordance with Standard Paragraph E at the end of this notice. The Commission will limit its consideration of comments to those that concern the adequacy or accuracy of the application.

3. Consumers Energy Company

[Docket No. ER00-3520-000]

Take notice that on August 25, 2000, Consumers Energy Company (Consumers), tendered for filing a Service Agreement with El Paso Merchant Energy, L.P. (Customer) under Consumers' FERC Electric Tariff No. 9 for Market Based Sales.

Consumers requested that the Agreement be allowed to become effective July 28, 2000.

Copies of the filing were served upon the Customer and the Michigan Public Service Commission.

Comment date: September 15, 2000, in accordance with Standard Paragraph E at the end of this notice.

4. Jersey Central Power & Light Company, Metropolitan Edison Company, Pennsylvania Electric Company

[Docket No. ER00-3521-000]

Take notice that on August 25, 2000, Jersey Central Power & Light Company, Metropolitan Edison Company and Pennsylvania Electric Company (individually doing business as GPU Energy), tendered for filing a Notice of Cancellation of the Service Agreement between GPU Service Corporation and Entergy Power Marketing Corp., FERC Electric Tariff, Original Volume No. 1, Service Agreement No. 49.

GPU Energy requests that cancellation be effective October 24, 2000.

Comment date: September 15, 2000, in accordance with Standard Paragraph E at the end of this notice.

5. Allegheny Power Service Corporation, on behalf of Monongahela Power Company, The Potomac Edison Company, and West Penn Power Company (Allegheny Power)

[Docket No. ER00-3522-000]

Take notice that on August 25, 2000, Allegheny Power Service Corporation on behalf of Monongahela Power Company, The Potomac Edison Company and West Penn Power Company (Allegheny Power), tendered for filing Service Agreement No. 323 to add Pepco Energy Services, Inc., to Allegheny Power's Open Access Transmission Service Tariff.

The proposed effective date under the agreement is August 24, 2000.

Copies of the filing have been provided to the Public Utilities Commission of Ohio, the Pennsylvania Public Utility Commission, the Maryland Public Service Commission, the Virginia State Corporation Commission, and the West Virginia Public Service Commission.

Comment date: September 15, 2000, in accordance with Standard Paragraph E at the end of this notice.

6. Consumers Energy Company Docket No.

[ER00-3523-000]

Take notice that on August 25, 2000, Consumers Energy Company (Consumers), tendered for filing a Facility Engineering Authorization Agreement Between Consumers and Kinder Morgan Michigan, LLC [KMPower] (Agreement), dated August 17, 2000, (Agreement). Under the Agreement, Consumers is to perform engineering and other preliminary work associated with providing an electrical connection between a generating plant to be built by KMPower and Consumers' transmission system.

Consumers requested that the Agreements be allowed to become effective by August 17, 2000.

Copies of the filing were served upon KMPower and the Michigan Public Service Commission.

Comment date: September 15, 2000, in accordance with Standard Paragraph E at the end of this notice.

7. Jersey Central Power & Light Company, Metropolitan Edison Company, Pennsylvania Electric Company

[Docket No. ER00-3524-000]

Take notice that on August 25, 2000, Jersey Central Power & Light Company, Metropolitan Edison Company and Pennsylvania Electric Company (individually doing business as GPU Energy), tendered for filing Notice of Cancellation of the Service Agreement between GPU Service, Inc., and Plum Street Energy Marketing, Inc., FERC Electric Tariff, Original Volume No. 1, Service Agreement No. 70.

GPU Energy requests that cancellation be effective October 24, 2000.

Comment date: September 15, 2000, in accordance with Standard Paragraph E at the end of this notice.

8. Jersey Central Power & Light Company, Metropolitan Edison Company, Pennsylvania Electric Company

[Docket No. ER00-3525-000]

Take notice that on August 25, 2000, Jersey Central Power & Light Company, Metropolitan Edison Company and Pennsylvania Electric Company (individually doing business as GPU Energy), tendered for filing Notice of Cancellation of the Service Agreement between GPU Service Corporation and Northeast Utilities Service Company, FERC Electric Tariff, Original Volume No. 1, Service Agreement No. 27.

GPU Energy requests that cancellation be effective October 24, 2000.

Comment date: September 15, 2000, in accordance with Standard Paragraph E at the end of this notice.

9. Jersey Central Power & Light Company, Metropolitan Edison Company, Pennsylvania Electric Company

[Docket No. ER00-3526-000]

Take notice that on August 25, 2000, Jersey Central Power & Light Company, Metropolitan Edison Company and Pennsylvania Electric Company (individually doing business as GPU Energy), tendered for filing Notice of Cancellation of the Service Agreement between GPU Service Corporation and Enron Power Marketing, Inc., FERC Electric Tariff, Original Volume No. 1, Service Agreement No. 1.

GPU Energy requests that cancellation be effective October 24, 2000.

Comment date: September 15, 2000, in accordance with Standard Paragraph E at the end of this notice.

10. Jersey Central Power & Light Company, Metropolitan Edison Company, Pennsylvania Electric Company

[Docket No. ER00-3527-000]

Take notice that on August 25, 2000, Jersey Central Power & Light Company, Metropolitan Edison Company and Pennsylvania Electric Company (individually doing business as GPU Energy), tendered for filing Notice of Cancellation of the Service Agreement between GPU Service Corporation and North American Energy Conservation Inc., FERC Electric Tariff, Original Volume No. 1, Service Agreement No. 12.

GPU Energy requests that cancellation be effective October 24, 2000.

Comment date: September 15, 2000, in accordance with Standard Paragraph E at the end of this notice.

11. Jersey Central Power & Light Company, Metropolitan Edison Company, Pennsylvania Electric Company

[Docket No. ER00-3528-000]

Take notice that on August 25, 2000, Jersey Central Power & Light Company, Metropolitan Edison Company and Pennsylvania Electric Company (individually doing business as GPU Energy), tendered for filing Notice of Cancellation of the Service Agreement between GPU Service Inc. and IUC Power Services, FERC Electric Tariff, Original Volume No. 1, Service Agreement No. 60.

GPU Energy requests that cancellation be effective October 24, 2000.

Comment date: September 15, 2000, in accordance with Standard Paragraph E at the end of this notice.

12. Jersey Central Power & Light Company, Metropolitan Edison Company, Pennsylvania Electric Company

[Docket No. ER00-3529-000]

Take notice that on August 25, 2000, Jersey Central Power & Light Company, Metropolitan Edison Company and Pennsylvania Electric Company (individually doing business as GPU Energy), tendered for filing Notice of Cancellation of the Service Agreement between GPU Service Corporation and New England Power Company, FERC Electric Tariff, Original Volume No. 1, Service Agreement No. 28.

GPU Energy requests that cancellation be effective October 24, 2000.

Comment date: September 15, 2000, in accordance with Standard Paragraph E at the end of this notice.

13. Jersey Central Power & Light Company, Metropolitan Edison Company, Pennsylvania Electric Company

[Docket No. ER00-3530-000]

Take notice that on August 25, 2000, Jersey Central Power & Light Company, Metropolitan Edison Company and Pennsylvania Electric Company (individually doing business as GPU Energy), tendered for filing Notice of Cancellation of the Service Agreement between GPU Service Corporation and Old Dominion Electric Cooperative, FERC Electric Tariff, Original Volume No. 1, Service Agreement No. 22.

GPU Energy requests that cancellation be effective the October 24, 2000.

Comment date: September 15, 2000, in accordance with Standard Paragraph E at the end of this notice.

14. Jersey Central Power & Light Company, Metropolitan Edison Company, Pennsylvania Electric Company

[Docket No. ER00-3531-000]

Take notice that on August 25, 2000, Jersey Central Power & Light Company, Metropolitan Edison Company and Pennsylvania Electric Company (individually doing business as GPU Energy), tendered for filing a Notice of Cancellation of the Service Agreement between GPU Service, Inc., and Equitable Power Services Company, FERC Electric Tariff, Original Volume No. 1, Service Agreement No. 67.

GPU Energy requests that cancellation be effective, October 24, 2000.

Comment date: September 15, 2000, in accordance with Standard Paragraph E at the end of this notice.

15. Jersey Central Power & Light Company, Metropolitan Edison Company, Pennsylvania Electric Company

[Docket No. ER00-3532-000]

Take notice that on August 25, 2000, Jersey Central Power & Light Company, Metropolitan Edison Company and Pennsylvania Electric Company (individually doing business as GPU Energy), tendered for filing Notice of Cancellation of the Service Agreement between GPU Service Corporation and National Fuel Resource, Inc., FERC Electric Tariff, Original Volume No. 1, Service Agreement No. 29.

GPU Energy requests that cancellation be effective October 24, 2000.

Comment date: September 15, 2000, in accordance with Standard Paragraph E at the end of this notice.

16. American Electric Power Service Corporation

[Docket No. ER00-3533-000]

Take notice that on August 25, 2000, the American Electric Power Service Corporation (AEPSC), tendered for filing executed Interconnection and Operation Agreement between Appalachian Power Company and Twelvepole Creek, LLC. The agreement is pursuant to the AEP Companies' Open Access Transmission Service Tariff (OATT) that has been designated as the Operating Companies of the American Electric Power System FERC Electric Tariff Revised Volume No. 6, effective June 15, 2000.

AEP requests an effective date of June 27, 2000.

A copy of the filing was served upon the Public Service Commission of West Virginia.

Comment date: September 15, 2000, in accordance with Standard Paragraph E at the end of this notice.

17. Alliant Energy Corporate Services, Inc.

[Docket No. ER00-3534-000]

Take notice that on August 25, 2000, Alliant Energy Corporate Services, Inc., tendered for filing executed Service Agreements for short-term firm point-to-point transmission service and non-firm point-to-point transmission service, establishing Midwest Power, LLC as a point-to-point Transmission Customer under the terms of the Alliant Energy Corporate Services, Inc., transmission tariff.

Alliant Energy Corporate Services, Inc., requests an effective date of August 10, 2000, and accordingly, seeks waiver of the Commission's notice requirements.

A copy of this filing has been served upon the Illinois Commerce Commission, the Minnesota Public Utilities Commission, the Iowa Department of Commerce, and the Public Service Commission of Wisconsin.

Comment date: September 15, 2000, in accordance with Standard Paragraph E at the end of this notice.

18. PacifiCorp

[Docket No. ER00-3535-000]

Take notice that on August 25, 2000, PacifiCorp tendered for filing in accordance with 18 CFR 35 of the Commission's Rules and Regulations, umbrella Transmission Service Agreements with TransAlta Centralia Generation LLC (TransAlta) under PacifiCorp's FERC Electric Tariff, Second Revised Volume No. 11 (Tariff). In addition, PacifiCorp has resubmitted the Tariff in accordance with the Commission's Order No. 614.

Copies of this filing were supplied to the Washington Utilities and Transportation Commission and the Public Utility Commission of Oregon.

Comment date: September 15, 2000, in accordance with Standard Paragraph E at the end of this notice.

19. Louisville Gas and Electric Company/Kentucky Utilities Company

[Docket No. ER00-3536-000]

Take notice that on August 25, 2000, Louisville Gas and Electric Company (LG&E)/Kentucky Utilities (KU) (hereinafter Companies), tendered for filing an executed Netting Agreement between the Companies and Reliant Energy Services, Inc.

Comment date: September 15, 2000, in accordance with Standard Paragraph E at the end of this notice.

20. Carolina Power & Light Company

[Docket No. ER00-3537-000]

Take notice that on August 25, 2000, Carolina Power & Light Company tendered for filing modifications to its Open Access Transmission Tariff First Revised Volume No. 3, effective February 1, 1998 through June 6, 2000; and modifications to its Open Access Transmission Tariff, Second Revised Volume No. 3, effective June 7, 2000, the date that tariff took effect. CP&L states that the modifications reflect an agreement with interveners that will result in termination of this proceeding. CP&L also notified the Commission that it has reached agreement with interveners that the tariff sheets that were included in its July 18, 1997 unilateral offer of settlement in this docket should be withdrawn

Copies of the filing were served upon the public utility's jurisdictional customers, North Carolina Utilities Commission and South Carolina Public Service Commission.

Comment date: September 15, 2000, in accordance with Standard Paragraph E at the end of this notice.

21. FirstEnergy System

[Docket No. ER00-3538-000]

Take notice that on August 25, 2000, FirstEnergy System filed Service Agreements to provide Firm Point-to-Point Transmission Service for The Energy Authority, Inc., MidAmerican Energy Company (Retail), and MidAmerican Energy Company, the Transmission Customers. Services are being provided under the FirstEnergy System Open Access Transmission Tariff submitted for filing by the Federal Energy Regulatory Commission in Docket No. ER97-412-000.

The proposed effective date under the Service Agreements is August 23, 2000 for the above mentioned Service Agreements in this filing.

Comment date: September 15, 2000, in accordance with Standard Paragraph E at the end of this notice.

22. LSP Energy Limited Partnership

[Docket No. ER00-3539-000]

Take notice that on August 25, 2000, LSP Energy Limited Partnership (LSP Energy), tendered for filing under Section 205 of the Federal Power Act an executed long-term electric service agreement between LSP Energy and Aquila Power Corporation (now known as Aquila Energy Marketing Corporation) and Utilicorp United, Inc., and an executed long-term electric service agreement between LSP Energy and Virginia Electric and Power Company, each with amendments.

LSP Energy requests an effective date of August 8, 2000 for both service agreements.

Comment date: September 15, 2000, in accordance with Standard Paragraph E at the end of this notice.

23. FirstEnergy System

[Docket No. ER00-3541-000]

Take notice that on August 25, 2000, FirstEnergy System tendered for filing a Service Agreement to provide Non-Firm Point-to-Point Transmission Service for The Energy Authority, Inc., MidAmerican Energy Company (Retail), and MidAmerican Energy Company, the Transmission Customers. Services are being provided under the FirstEnergy System Open Access Transmission Tariff submitted for filing by the Federal Energy Regulatory Commission in Docket No. ER97-412-000.

The proposed effective date under the Service Agreements is August 23, 2000 for the above mentioned Service Agreements in this filing.

Comment date: September 15, 2000, in accordance with Standard Paragraph E at the end of this notice.

24. Pasadena Cogeneration L.P.

[Docket No. QF96-54-003]

Take notice that on August 24, 2000, Pasadena Cogeneration L.P., 50 West San Fernando Street, San Jose, California 95113, filed with the Federal Energy Regulatory Commission an application to be recertified as a qualifying cogeneration facility pursuant to section 292.207 of the Commission's regulations. No determination has been made that the submittal constitutes a complete filing.

The facility is a topping-cycle cogeneration facility located in Pasadena, Texas and consists of three combustion turbine-generators, two heat recovery steam generators, two condensing steam turbine-generators and interconnection equipment. The primary energy source used by the facility is natural gas. The maximum net electric power production capacity of the facility is 787 MW. The facility provides process steam and electric energy to the Houston Chemical Complex, which is owned by Chevron Phillips Chemical Company LP. Surplus electric energy produced by the facility is sold to Houston Lighting & Power Company (HL&P) and other purchasers. HL&P is interconnected with the facility and provides backup services.

Comment date: September 25, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-23066 Filed 9-7-00; 8:45 am]

BILLING CODE 6717-01-P